DEPARTMENT OF THE TREASURY

United States Mint

Pricing for the 2014 National Baseball Hall of Fame Commemorative Coin Program—Silver and Clad Coin Options

AGENCY: United States Mint, Department of the Treasury.

ACTION: Notice.

SUMMARY: The United States Mint is announcing the following prices for the 2014 National Baseball Hall of Fame Commemorative Coin Program for the silver and clad coin options:

Product | Introductory price | Regular price
2014 National Baseball Hall of Fame Proof $5 Gold Coin | Per pricing grid * | Per pricing grid.*
2014 National Baseball Hall of Fame Uncirculated $5 Gold Coin * | Per pricing grid * | Per pricing grid.*
2014 National Baseball Hall of Fame Proof Silver Dollar | $51.95 | $56.95.
2014 National Baseball Hall of Fame Uncirculated Silver Dollar | $47.95 | $52.95.
2014 National Baseball Hall of Fame Proof Clad Half-Dollar | $19.95 | $23.95.
2014 National Baseball Hall of Fame Uncirculated Clad Half-Dollar | $18.95 | $22.95.
* Gold coins will be priced according to the pricing grid posted in 2013.

FOR FURTHER INFORMATION CONTACT: Marc Landry, Acting Associate Director for Sales and Marketing, United States Mint, 801 9th Street NW., Washington, DC 20220; or call 202-354-7500.

Authority: 31 U.S.C. 5111, 5112 & 9701; Pub. L. 112-152, sec. 6.

Dated: March 14, 2014.
Richard A. Peterson,
Deputy Director, United States Mint.

[FR Doc. 2014-06103 Filed 3-19-14; 8:45 am]

BILLING CODE P